DEPARTMENT OF TRANSPORTATION

Pipeline and Hazardous Materials Safety Administration

[Docket No. PHMSA-2018-0028]

Pipeline Safety: Pipeline Research and Development Forum

AGENCY: Pipeline and Hazardous Materials Safety Administration (PHMSA), DOT.

ACTION: Notice of public forum.

SUMMARY: This notice is to inform the interested public that the Pipeline and Hazardous Materials Safety Administration (PHMSA), Office of Pipeline Safety (OPS) will be conducting a public meeting for the Pipeline Research and Development Forum. PHMSA periodically conducts such a forum to generate a national research agenda that fosters solutions to the many challenges with pipeline safety and protecting the environment.

DATES: The public forum will be held on September 11-12, 2018. Name badge pick up and on-site registration will be available starting at 7:00 a.m. on both days, with the forum taking place from 8:00 a.m. ET until approximately 5:00 p.m. ET on September 11 and from 8:00 a.m. ET until approximately 4:30 p.m. ET on September 12. Online pre-registration for the forum is available until August 27. Individuals requiring accommodations, such as sign language interpretation or other ancillary aids, should notify OPS by August 27. For additional information, see the ADDRESSES section of this notice.

ADDRESSES: The public forum will be held at the Hyatt Regency Baltimore Inner Harbor Hotel, 300 Light Street, Baltimore, Maryland, 21202. The agenda and any additional information for the forum will be published on the following meeting and registration page at https://primis.phmsa.dot.gov/meetings/MtgHome.mtg?mtg=136.

Registration: To help assure that adequate space is provided, attendees should register in advance at the PHMSA public forum website at https://primis.phmsa.dot.gov/meetings/MtgHome.mtg?mtg=136. Onsite registration will also be available.

The public forum will not be webcast; however, presentations will be available on the forum website and in the public docket at https://www.regulations.gov/, in docket number PHMSA-2018-0028, within 30 days following the meeting.

Public Participation: The Pipeline Research and Development Forum will be open to the public. Members of the public will be provided an opportunity to make a statement during the forum.

Individuals requiring accommodations, such as sign language interpretation or other ancillary aids, should notify Robert Smith, Engineering and Research Division, at 919-238-4759 or robert.w.smith@dot.gov.

Written comments: Persons who wish to submit written comments on the forum may do so by submitting them to the public docket in the following ways:

E-Gov website: https://www.regulations.gov. This website allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of the DOT West Building, 1200 New Jersey Avenue SE, Washington, DC, between 9:00 a.m. and 5:00 p.m., Monday through Friday, except on Federal holidays.

Instructions: Identify the docket number PHMSA-2018-0028 at the beginning of your comments. Note that all comments received will be posted without change to https://www.regulations.gov, including any personal information provided. Anyone can search the electronic form of all comments received into any of our dockets by the name of the individual submitting the comment (or signing the comment, if submitted on behalf of an association, business, labor union, etc.). Therefore, consider reviewing DOT's complete Privacy Act Statement in the Federal Register published on April 11, 2000 (65 FR 19477), or view the Privacy Notice at https://www.regulations.gov before submitting comments.

Docket: For docket access or to read background documents or comments, go to https://www.regulations.gov at any time or to Room W12-140 on the ground level of the DOT West Building, 1200 New Jersey Avenue SE, Washington, DC, between 9:00 a.m. and 5:00 p.m., Monday through Friday, except Federal holidays.

If you wish to receive confirmation of receipt of your written comments, please include a self-addressed, stamped postcard with the following statement: “Comments on PHMSA-2018-0028.” The docket clerk will date stamp the postcard prior to returning it to you via the U.S. mail.

Privacy Act Statement

DOT may solicit comments from the public regarding certain general notices. DOT posts these comments, without edit, including any personal information the commenter provides, to www.regulations.gov, as described in the system of records notice (DOT/ALL-14 FDMS), which can be reviewed at www.dot.gov/privacy.

FOR FURTHER INFORMATION CONTACT: Robert Smith, Office of Pipeline Safety, Engineering and Research Division, Pipeline and Hazardous Materials Safety Administration, U.S. Department of Transportation, at 919-238-4759 or robert.w.smith@dot.gov.

SUPPLEMENTARY INFORMATION: PHMSA periodically conducts this Pipeline Research and Development Forum to generate a national research agenda that fosters solutions to the many challenges with pipeline safety and protecting the environment. The forum allows the public, government and industry pipeline stakeholders to provide input on the technical gaps and challenges for future research. It also reduces duplication of programs, factors ongoing research efforts, leverages resources and broadens synergies. The national research agenda that will be developed through this forum will help PHMSA align its research program with the needs of its pipeline safety mission and make use of the best available knowledge and expertise, as well as considering the perspectives of stakeholders.

Issued in Washington, DC on July 11, 2018, under authority delegated in 49 CFR 1.97.
Alan K. Mayberry,
Associate Administrator for Pipeline Safety.

[FR Doc. 2018-15418 Filed 7-18-18; 8:45 am]

BILLING CODE 4910-60-P